DEPARTMENT OF HOMELAND SECURITY

Coast Guard

[Docket No. USCG-2014-1053]

Towing Safety Advisory Committee; October 2015 Meeting

AGENCY: Coast Guard, Department of Homeland Security.

ACTION: Notice of Federal Advisory Committee meeting.

SUMMARY: The Towing Safety Advisory Committee will meet in Washington, DC, to review and discuss recommendations from its subcommittees and to receive briefs listed in the agenda under SUPPLEMENTARY INFORMATION. All meetings will be open to the public.

DATES: The Towing Safety Advisory Committee Subcommittees will meet on Thursday, October 22, 2015, from 8:30 a.m. to 5 p.m. The full Towing Safety Advisory Committee will meet on Friday, October 23, 2015, from 8 a.m. to 5:30 p.m. These meetings may close early if the Committee has completed its business.

ADDRESSES: All meetings will be held at the Department of Transportation Headquarters Media Center, 1200 New Jersey Avenue SE., Washington, DC 20590. The Telephone Number for the DOT HQ Media Center is (502) 992-5326 and the Fax is (502) 589-4905.

You must present a form of government issued identification to gain entrance to the Department of Transportation Headquarters. We recommend you arrive at least 30 minutes before the scheduled start time.

For information on facilities or services for individuals with disabilities or to request special assistance at the meeting, contact the individuals listed in the FOR FURTHER INFORMATION CONTACT section, as soon as possible.

To facilitate public participation, we are inviting public comment on the issues to be considered by the Committee as listed in the “Agenda” section below. If you want the Committee members to be able to review your comments before the meeting, submit them no later than October 15, 2015 and they must be identified by Docket No. USCG-2014-1053. Written comments may be submitted using the Federal eRulemaking Portal at http://www.regulations.gov. If your material cannot be submitted using http://www.regulations.gov, contact Mr. Abernathy listed in the FOR FURTHER INFORMATION CONTACT section of this document for alternate instructions.

Instructions: All submissions received must include the words “Department of Homeland Security” and the docket number, “USCG-2014-1053.” All comments received will be posted without alteration at http://www.regulations.gov including any personal information provided. You may review a Privacy Act notice regarding the Federal Docket Management System in the March 24, 2005 issue of the Federal Register (70 FR 15086).

Docket: For access to the docket to read documents or comments related to this notice, go to http://www.regulations.gov insert USCG-2014-1053 in the Search box, press Enter, and then click on the item you wish to view.

FOR FURTHER INFORMATION CONTACT: Mr. William J. Abernathy, Alternate Designated Federal Officer for the Towing Safety Advisory Committee; Commandant (CG-OES-2), U.S. Coast Guard, 2703 Martin Luther King Jr. Avenue SE., Stop 7509, Washington, DC 20593-7509; telephone 202-372-1363, fax 202-372-8382; or email William.J.Abernathy@uscg.mil; or Commander Jose A. Perez, Designated Federal Officer; telephone 202-372-1410, fax 202-372-8382; or email Jose.A.Perez3@uscg.mil.

SUPPLEMENTARY INFORMATION: Notice of this meeting is given under the Federal Advisory Committee Act, 5 U.S.C. Appendix. This Committee is established in accordance with, and operates under the provisions of, the Federal Advisory Committee Act. As stated in 33 U.S.C. 1231a, the Towing Safety Advisory Committee provides advice and recommendations to the Department of Homeland Security on matters relating to shallow-draft inland and coastal waterway navigation and towing safety.

Agenda of Meetings

The subcommittees will meet on October 22, 2015, from 8:30 a.m. to 5 p.m., to work on their specific task assignments:

(1) Recommendations for the Maintenance, Repair, and Utilization of Towing Equipment, Lines, and Couplings.

(2) Recommendations to Establish Criteria for Identification of Air Draft for Towing Vessels and Tows.

(3) Recommendations concerning the MODU KULLUK Report of Investigation.

(4) Recommendations regarding the automation equipment, testing, and trial periods to be considered by Officers-in-Charge, Marine Inspection for a reduction in engine room personnel on towing vessels.

On October 23, 2015, from 8 a.m. to 5:30 p.m., the Towing Safety Advisory Committee will meet to discuss the progress of its subcommittees and expects to receive and consider the draft final reports from the subcommittees on the MODU KULLUK and Towing Gear. The Committee will also receive new tasking requesting recommendations regarding Articulated Tug and Barge operations and manning, and use of Electronic Charting on Towing Vessels. The Committee will also receive an update on a tasking request to review and provide recommendations regarding engine room operations on towing vessels equipped with systems automation in order to determine manning levels.

There will be a comment period for Towing Safety Advisory Committee members and a comment period for the public after each report presentation, but before each is voted on by the Committee. The Committee will review the information presented on each issue, deliberate on any recommendations presented in the Subcommittees' reports, and formulate recommendations for the Department's consideration.

A copy of each available draft report and presentation as well as the meeting agenda will be available by October 15, 2015, at: https://homeport.uscg.mil/tsac. Any revisions or updates to the presentations and the reports that are received subsequent to the meeting will be posted no later than 90 days following the meeting.

An opportunity for oral comments by the public will be provided during the meeting on October 23, 2015. Speakers are requested to limit their comments to 3 minutes. Please note the public oral comment period may end before 5:30 p.m., if the Committee has finished its business earlier than scheduled. Please contact Mr. William J. Abernathy, listed above in the FOR FURTHER INFORMATION CONTACT section to register as a speaker.

Minutes

Minutes from the meeting will be available for public review and copying within 90 days following the close of the meeting and can be accessed from the Coast Guard Homeport Web site http://homeport.uscg.mil/tsac.

Dated: September 29, 2015.
J.G. Lantz,
Director of Commercial Regulations and Standards.

[FR Doc. 2015-25114 Filed 10-1-15; 8:45 am]

BILLING CODE 9110-04-P